DEPARTMENT OF DEFENSE

Department of the Army, Corps of Engineers

Notice of Availability for the Final Supplemental Environmental Impact Statement for the Proposed San Acacia to Bosque del Apache Project, Socorro County, New Mexico

AGENCY: Department of the Army, U.S. Army Corps of Engineers, DoD.

ACTION: Notice of availability—Final SEIS.

SUMMARY: In accordance with the National Environmental Policy Act of 1969 (42 U.S.C. 4321 et seq.) and Council on Environmental Quality regulations (40 CFR parts 1500-1508) the Corps of Engineers, Albuquerque District, has prepared a final Supplemental Environmental Impact Statement (SEIS) for the San Acacia to Bosque del Apache Project, Socorro County, New Mexico.

DATES: The 30-day review period begins on January 24, 2014 and ends on February 24, 2014. The Record of Decision on the proposed action will be issued after February 24, 2014.

FOR FURTHER INFORMATION CONTACT: For further information, requests for copies, and/or questions about the project, please contact Mr. Jerry Nieto, Project Manager, by telephone: (505) 342-3362, by mail: U.S. Army Corps of Engineers, 4101 Jefferson Plaza NE., Albuquerque, New Mexico 87109, or by email: Jerry.D.Nieto@usace.army.mil.

SUPPLEMENTARY INFORMATION:

1. Background Information: Previously, an environmental impact statement (1977) and a supplement (1992) were published regarding this project. The current SEIS (II) evaluates the effects of revised levee design and additional alternatives. The final SEIS is integrated with a final General Reevaluation Report, and the integrated document is entitled: General Reevaluation Report and Supplemental Environmental Impact Statement II: Rio Grande Floodway, San Acacia to Bosque del Apache Unit, Socorro County, New Mexico (hereafter referred to as the final GRR/SEIS-II).

Alternatives developed and evaluated during the current and previous studies consist of levee reconstruction (at various heights); flood and sediment control dams; local levees; intermittent levee replacement; watershed land treatment; floodproofing of buildings; levee-alignment setbacks; and no action. Principal issues analyzed in the development of the GRR/SEIS-II included the effect of alternatives on flood risk, developed lands and structures, water quality, ecological resources, endangered species, cultural resources, and socio-economics.

The recommended plan is to replace the existing embankment between the Low Flow Conveyance Channel and the Rio Grande with a structurally competent levee capable of containing high-volume, long-duration flows. This engineered levee would substantially reduce the risk of damage from floods emanating from the Rio Grande. The proposed levee and attendant structures would extend from San Acacia downstream for approximately 43 miles, nearly to San Marcial. The local cost-sharing sponsors of the proposed project are the Middle Rio Grande Conservancy District and the New Mexico Interstate Stream Commission.

2. Draft SEIS Review: The draft GRR-SEIS-II comment period began on April 27, 2012 with the publication of the Notice of Availability in the Federal Register (77 FR 25151), and ended on June 11, 2012. A public meeting was held during the review period on May 22, 2012 in Socorro, New Mexico.

3. Availability of the final GRR/SEIS-II: The final document is electronically available for viewing and printing at: http://www.spa.usace.army.mil/Missions/Environmental/EnvironmentalComplianceDocuments/EnvironmentalImpactStatementsROD.aspx. Electronic copies may also be requested from the contact person listed above. Paper copies of the final GRR/SEIS-II are available for review at the Socorro Public Library, 401 Park St., Socorro, NM.

Julie A. Alcon,
Chief, Environmental Resources Section, U.S. Army Corps of Engineers, Albuquerque.

[FR Doc. 2014-01448 Filed 1-24-14; 8:45 am]

BILLING CODE 3720-58-P